ENVIRONMENTAL PROTECTION AGENCY

[FRL-7208-5]

Public Listening Sessions on EPA's Watershed Initiative

AGENCY: Environmental Protection Agency (EPA).

ACTION: Notice of public meetings.

SUMMARY: EPA is inviting all interested members of the public to participate in one of four listening sessions on EPA's Watershed Initiative, in Washington DC. The purpose of these sessions is to solicit ideas and suggestions on the design of the Initiative, specifically the nomination and selection processes, and the development of appropriate selection criteria. On January 25, 2002, EPA announced that the President's 2003 budget would include a request for $21 million for a new Watershed Initiative. Pending appropriations for this purpose, EPA will call for nominations and select up to 20 watershed organizations to receive grants for projects that support innovative watershed-based approaches to watershed protection. Throughout the upcoming months, EPA will be working cooperatively with the States, Tribes, local governments, and community groups to develop the proposed program.

DATES: See SUPPLEMENTARY INFORMATION section below for meeting dates and times.

ADDRESSES: See SUPPLEMENTARY INFORMATION section below for the location of the meetings.

FOR FURTHER INFORMATION CONTACT: For general information about the sessions and to register for one of the sessions, contact James Cole, Environmental Protection Agency, Office of Wetlands, Oceans, and Watersheds, by telephone at 202-566-1291 or by e-mail at cole.james@epa.gov. For information about the Watershed Initiative visit EPA's web site at http://www.epa.gov/owow/watershed/ or contact Carol Peterson, Environmental Protection Agency, Office of Wetlands, Oceans, and Watersheds by telephone at 202-566-1304 or by e-mail at peterson.carol@epa.gov.

SUPPLEMENTARY INFORMATION:

I. Background

On January 25, 2002, EPA announced that it was including an additional $21 million in its fiscal year 2003 budget proposal for a new initiative to protect, preserve, and restore watersheds across the country. This new Watershed Initiative will seek to encourage successful watershed partnerships aimed at improving the nation's water resources. As part of this community-based effort, EPA will target up to 20 of the nation's most valued watersheds to receive a grant. In Governor Whitman's address, she stated that the Agency will be working cooperatively with Congress, States, local governments, agricultural groups, environmental groups, industry, and watershed community organizations in developing the details of how this Initiative will be designed and implemented.

In the next few weeks, EPA will publish a notice in the Federal Register soliciting stakeholder ideas and suggestions on possible approaches EPA might take in designing the new program. This notice will outline the Watershed Initiative, present EPA's current ideas on how the Initiative should be designed, and pose specific questions with respect to the nomination and selection processes for watershed projects. The Agency will provide the public with a 60-day review and comment period.

II. Public Listening Sessions

EPA has scheduled four stakeholder listening sessions during the month of May. It is the Agency's goal that these meetings be comprised of people from diverse interests and perspectives in the hopes of providing an opportunity for open and active discussions. The purpose of these sessions is to attain an array of opinions and viewpoints regarding the details of the Initiative on issues such as, the role of Governors and Tribal Leaders, project scope and criteria, and the nomination and selection processes. EPA will use the information solicited from the public via the Federal Register notice and the listening sessions to develop the Watershed Initiative.

Additional sessions may be held in June if there is sufficient interest. Space is limited to approximately 30 people per session, and registration will be on a first-come basis. All participants must register. Due to the limited seating, EPA asks that organizations wishing to attend a session send only one representative.

Meeting Information

Location: All sessions will be held in Room 1117A, EPA East Building, 1201 Constitution Avenue, NW., Washington, DC 20004.

Dates and Times

Tuesday, May 14; 8:30 a.m.-11:30 a.m.

Wednesday, May 15; 8:30 a.m.-11:30 a.m.

Wednesday, May 22; 1 p.m.-4 p.m.

Wednesday, May 29; 8:30 a.m.-11:30 a.m.

Registration: Please register at least two days prior to your session of choice by contacting Mr. James Cole at cole.james@epa.gov or 202-566-1291. To register, provide your name, affiliation, mailing and e-mail address, and phone number along with your first and second choice for the listening session you are interested in attending. Please also advise Mr. Cole if you have a disability and require any special accommodations; the room is wheelchair accessible.

Dated: May 3, 2002.
Robert H. Wayland III,
Director, Office of Wetlands, Oceans, and Watersheds.

[FR Doc. 02-11651 Filed 5-8-02; 8:45 am]

BILLING CODE 6560-50-P